DEPARTMENT OF HEALTH AND HUMAN SERVICES

Centers for Medicare & Medicaid Services

42 CFR Part 484

[CMS-1541-CN]

RIN 0938-AO32

Medicare Program; Home Health Prospective Payment System Refinement and Rate Update for Calendar Year 2008; Correction

AGENCY: Centers for Medicare & Medicaid Services (CMS), HHS.

ACTION: Proposed rule; correction notice.

SUMMARY: This document corrects technical errors that appeared in the proposed rule published in the Federal Register on May 4, 2007, entitled “Medicare Program; Home Health Prospective Payment System Refinement and Rate Update for Calendar Year 2008” (72 FR 25356).

FOR FURTHER INFORMATION CONTACT: Randy Throndset, (410) 786-0131.

SUPPLEMENTARY INFORMATION:

I. Background

In FR Doc. 07-2167 of May 4, 2007 (72 FR 25356), there were a number of technical errors that we identified and corrected in the Correction of Errors section below.

II. Summary of Errors

In the May 4, 2007 published proposed rule, on page 25388, we provided a Table 4 “Regression Coefficients for Calculating Case-Mix Relative Weights” that illustrated payment regression coefficients, which represent the average addition to resource cost due to each severity level. We inadvertently miscalculated the payment for the case-mix groups in the second column of Table 4 and have corrected these errors.

We are republishing Table 4 in its entirety with the corrected information. The text on page 25388 describing Table 4 has also been changed to reflect the corrected data in the table as well as a typographical error. We are also correcting the language on page 25388 which describes how coefficients are scaled. A phrase was inadvertently omitted which notes that the calculation also adjusts for budget neutrality in the weights.

We are correcting text on page 25389, which incorrectly stated that we are proposing to adjust for nominal change in case-mix through a reduction in the weights. The adjustment for nominal change in case-mix is made through a rate reduction in the national standardized 60-day episode payment. We are also correcting some typographic errors. On pages 25389-25392, Table 5 “Case-Mix Groups, Average Cost, and Case-Mix Weight” includes the predicted average resource cost for the 153 case-mix groups of the proposed model. We inadvertently miscalculated the “Average Cost” in the fourth column. We are republishing Table 5 in its entirety with the corrected information.

On pages 25430-25431, Table 12a “NRS Case-Mix Adjustment Variables and Scores” sets forth the NRS scores for the five-group model. We inadvertently included incorrect scores in the third column and have corrected these errors. The table also corrects how the scoring is broken out for Outcome and Assessment Information Set (OASIS) item M0450, giving separate scores for stage 3 and stage 4 pressure ulcers, separating 1 pressure ulcer and 2 pressure ulcers within both stages 3 and 4, changing 3 pressure ulcers for stage 3 or 4 to 3+ pressure ulcers for stage 3, changing the 4+ pressure ulcers for stage 3 and 4 to 3+ pressure ulcers for stage 4, and deleting the score for 5 or more pressure ulcers. We are republishing Table 12a in its entirety with the corrected information.

We are also correcting text on page 25444 describing the calculation of the case-mix and wage-adjusted national standardized 60-day episode payment rate including non-routine supplies to correct an error in the order of the calculation. We are correcting typographical errors in the LUPA calculation example on page 25447.

Finally, we are correcting typographical errors in Addendum A on page 25459, in the rural Massachusetts and New Jersey wage indices. The text of the first footnote to Addendum A also incorrectly states that all counties within the State are classified as rural. The first footnote has been corrected.

III. Correction of Errors

In FR Doc. 07-2167 of May 4, 2007 (72 FR 25356), make the following corrections:

1. On page 25388, in the first column, the first full paragraph,

a. In line 1, the word “PSS” is corrected to read “PPS”.

b. In lines 5 through 10, the sentence “(To show the coefficients in actual, as opposed to resource cost, dollars, the coefficients were scaled by a multiplier representing the ratio of the HH PPS average payment level to the Abt Associates average resource cost level)” is corrected to read as follows: “(To show the coefficients in actual, as opposed to resource cost, dollars, the coefficients were scaled by a multiplier representing the ratio of the HH PPS average payment level to the Abt Associates average resource cost level after adjusting for budget neutrality in the weights (see section II.A.2.c. for an explanation of budget neutrality adjustment to the weights.))”.

c. In line 17, the figure “$861.74” is corrected to read “$869.55”.

d. In line 18, the figure “$219.44” is corrected to read “$221.43”.

2. On page 25388, in the first column, second full paragraph, line 4, the figure “$1,265.18” is corrected to read “$1,276.66”.

3. On page 25388, in the second column, first partial paragraph,

a. In line 5, the figure “$1,265.18” is corrected to read “$1,276.66”.

b. In line 6, the figure “$139.26” is corrected to read “$140.52”.

c. In line 7, the figure “$645.90” is corrected to read “$651.76”.

d. In line 9, the figure “$210.94” is corrected to read “$212.85”.

e. In line 15, the figure “$2,261.28” is corrected to read “$2,281.79”.

4. On page 25388, in Table 4: Regression Coefficients for Calculating Case-Mix Relative Weights, the table is corrected as follows:

Table 4.—Regression Coefficients for Calculating Case-Mix Relative Weights
Intercept (constant for all case mix groups) | $1,276.66
1st and 2nd Episodes, 0 to 13 Therapy Visits
C2 | 384.11
C3 | 869.55
F2 | 221.43
F3 | 382.50
S2 (6 therapy visits) | 504.49
S3 (7-9 therapy visits) | 943.50
S4 (10 therapy visits) | 1,387.86
S5 (11-13 therapy visits) | 1,771.84
1st and 2nd Episodes, 14 to 19 Therapy Visits
Constant | 2,191.26
C2 | 539.55
C3 | 1,257.78
F2 | 270.79
F3 | 429.54
S2 (16-17 therapy visits) | 429.35
S3 (18-19 therapy visits) | 705.26
3rd+ Episodes, 0 to 13 Therapy Visits
Constant | 212.85
C2 | 140.52
C3 | 619.33
F2 | 418.51
F3 | 825.67
S2 (6 therapy visits) | 651.76
S3 (7-9 therapy visits) | 1,093.13
S4 (10 therapy visits) | 1,521.27
S5 (11-13 therapy visits) | 1,907.93
3rd+ Episodes, 14 to 19 Therapy Visits
Constant | 2,198.69
C2 | 678.75
C3 | 1,405.22
F2 | 394.26
F3 | 693.30
S2 (16-17 therapy visits) | 294.71
S3 (18-19 therapy visits) | 719.09
All Episodes, 20+ Therapy Visits
Constant | 4,033.07
C2 | 583.74
C3 | 1,396.22
F2 | 490.14
F3 | 1,052.59

5. On page 25389, in the first column,

a. In line 3, the word “two” is deleted.

b. In line 3, the word “adjustments” is corrected to read “adjustment”.

6. On page 25389, in the second column,

a. In line 1, the words “and the” is deleted.

b. In line 2, the phrase “adjustment for nominal changes in case-” is deleted.

7. On page 25389, in the third column,

a. In line 1, the words “mix coding” is deleted.

b. In line 1, the word “are” is corrected to read “is”.

8. On pages 25389-25392, in Table 5: Case Mix Groups, Average Cost, and Case Mix Weight, the table is corrected to read as follows:

Table 5.—Case-Mix Groups, Average Cost, and Case-Mix Weight
Severity level for each dimension: Clinical | Severity level for each dimension: Functional | Severity level for each dimension: Services utilization | Severity level for each dimension: Average cost | Severity level for each dimension: Case-mix weight
1st and 2nd Episodes, 0 to 13 Therapy Visits+C47
C1 | F1 | S1 | $1,276.66 | 0.5549
C1 | F1 | S2 | 1,781.15 | 0.7742
C1 | F1 | S3 | 2,220.16 | 0.9650
C1 | F1 | S4 | 2,664.52 | 1.1582
C1 | F1 | S5 | 3,048.51 | 1.3251
C1 | F2 | S1 | 1,498.09 | 0.6512
C1 | F2 | S2 | 2,002.59 | 0.8705
C1 | F2 | S3 | 2,441.60 | 1.0613
C1 | F2 | S4 | 2,885.95 | 1.2544
C1 | F2 | S5 | 3,269.94 | 1.4213
C1 | F3 | S1 | 1,659.16 | 0.7212
C1 | F3 | S2 | 2,163.65 | 0.9405
C1 | F3 | S3 | 2,602.66 | 1.1313
C1 | F3 | S4 | 3,047.02 | 1.3244
C1 | F3 | S5 | 3,431.00 | 1.4914
C2 | F1 | S1 | 1,660.77 | 0.7219
C2 | F1 | S2 | 2,165.26 | 0.9412
C2 | F1 | S3 | 2,604.27 | 1.1320
C2 | F1 | S4 | 3,048.63 | 1.3251
C2 | F1 | S5 | 3,432.61 | 1.4921
C2 | F2 | S1 | 1,882.20 | 0.8181
C2 | F2 | S2 | 2,386.69 | 1.0374
C2 | F2 | S3 | 2,825.70 | 1.2282
C2 | F2 | S4 | 3,270.06 | 1.4214
C2 | F2 | S5 | 3,654.04 | 1.5883
C2 | F3 | S1 | 2,043.27 | 0.8881
C2 | F3 | S2 | 2,547.76 | 1.1074
C2 | F3 | S3 | 2,986.77 | 1.2983
C2 | F3 | S4 | 3,431.12 | 1.4914
C2 | F3 | S5 | 3,815.11 | 1.6583
C3 | F1 | S1 | 2,146.21 | 0.9329
C3 | F1 | S2 | 2,650.71 | 1.1522
C3 | F1 | S3 | 3,089.72 | 1.3430
C3 | F1 | S4 | 3,534.07 | 1.5362
C3 | F1 | S5 | 3,918.06 | 1.7031
C3 | F2 | S1 | 2,367.65 | 1.0291
C3 | F2 | S2 | 2,872.14 | 1.2484
C3 | F2 | S3 | 3,311.15 | 1.4393
C3 | F2 | S4 | 3,755.50 | 1.6324
C3 | F2 | S5 | 4,139.49 | 1.7993
C3 | F3 | S1 | 2,528.71 | 1.0992
C3 | F3 | S2 | 3,033.21 | 1.3184
C3 | F3 | S3 | 3,472.22 | 1.5093
C3 | F3 | S4 | 3,916.57 | 1.7024
C3 | F3 | S5 | 4,300.56 | 1.8693
1st and 2nd Episodes, 14 to 19 Therapy Visits
C1 | F1 | S1 | 3,467.92 | 1.5074
C1 | F1 | S2 | 3,897.27 | 1.6940
C1 | F1 | S3 | 4,173.18 | 1.8140
C1 | F2 | S1 | 3,738.71 | 1.6251
C1 | F2 | S2 | 4,168.06 | 1.8117
C1 | F2 | S3 | 4,443.97 | 1.9317
C1 | F3 | S1 | 3,897.46 | 1.6941
C1 | F3 | S2 | 4,326.81 | 1.8807
C1 | F3 | S3 | 4,602.72 | 2.0007
C2 | F1 | S1 | 4,007.46 | 1.7419
C2 | F1 | S2 | 4,436.82 | 1.9285
C2 | F1 | S3 | 4,712.73 | 2.0485
C2 | F2 | S1 | 4,278.26 | 1.8596
C2 | F2 | S2 | 4,707.61 | 2.0463
C2 | F2 | S3 | 4,983.52 | 2.1662
C2 | F3 | S1 | 4,437.00 | 1.9286
C2 | F3 | S2 | 4,866.36 | 2.1153
C2 | F3 | S3 | 5,142.26 | 2.2352
C3 | F1 | S1 | 4,725.69 | 2.0541
C3 | F1 | S2 | 5,155.05 | 2.2407
C3 | F1 | S3 | 5,430.95 | 2.3607
C3 | F2 | S1 | 4,996.48 | 2.1718
C3 | F2 | S2 | 5,425.84 | 2.3584
C3 | F2 | S3 | 5,701.75 | 2.4784
C3 | F3 | S1 | 5,155.23 | 2.2408
C3 | F3 | S2 | 5,584.59 | 2.4274
C3 | F3 | S3 | 5,860.49 | 2.5474
3rd+ Episodes, 0 to 13 Therapy Visits
C1 | F1 | S1 | 1,489.51 | 0.6474
C1 | F1 | S2 | 2,141.27 | 0.9307
C1 | F1 | S3 | 2,582.64 | 1.1226
C1 | F1 | S4 | 3,010.78 | 1.3087
C1 | F1 | S5 | 3,397.44 | 1.4768
C1 | F2 | S1 | 1,908.02 | 0.8294
C1 | F2 | S2 | 2,559.78 | 1.1127
C1 | F2 | S3 | 3,001.15 | 1.3045
C1 | F2 | S4 | 3,429.29 | 1.4906
C1 | F2 | S5 | 3,815.95 | 1.6587
C1 | F3 | S1 | 2,315.18 | 1.0063
C1 | F3 | S2 | 2,966.94 | 1.2896
C1 | F3 | S3 | 3,408.31 | 1.4815
C1 | F3 | S4 | 3,836.46 | 1.6676
C1 | F3 | S5 | 4,223.12 | 1.8357
C2 | F1 | S1 | 1,630.03 | 0.7085
C2 | F1 | S2 | 2,281.79 | 0.9918
C2 | F1 | S3 | 2,723.16 | 1.1837
C2 | F1 | S4 | 3,151.31 | 1.3698
C2 | F1 | S5 | 3,537.97 | 1.5378
C2 | F2 | S1 | 2,048.54 | 0.8904
C2 | F2 | S2 | 2,700.30 | 1.1737
C2 | F2 | S3 | 3,141.67 | 1.3656
C2 | F2 | S4 | 3,569.81 | 1.5517
C2 | F2 | S5 | 3,956.47 | 1.7198
C2 | F3 | S1 | 2,455.71 | 1.0674
C2 | F3 | S2 | 3,107.47 | 1.3507
C2 | F3 | S3 | 3,548.84 | 1.5426
C2 | F3 | S4 | 3,976.98 | 1.7287
C2 | F3 | S5 | 4,363.64 | 1.8967
C3 | F1 | S1 | 2,108.84 | 0.9166
C3 | F1 | S2 | 2,760.60 | 1.1999
C3 | F1 | S3 | 3,201.97 | 1.3918
C3 | F1 | S4 | 3,630.11 | 1.5779
C3 | F1 | S5 | 4,016.77 | 1.7460
C3 | F2 | S1 | 2,527.34 | 1.0986
C3 | F2 | S2 | 3,179.10 | 1.3819
C3 | F2 | S3 | 3,620.47 | 1.5737
C3 | F2 | S4 | 4,048.62 | 1.7598
C3 | F2 | S5 | 4,435.28 | 1.9279
C3 | F3 | S1 | 2,934.51 | 1.2755
C3 | F3 | S2 | 3,586.27 | 1.5588
C3 | F3 | S3 | 4,027.64 | 1.7507
C3 | F3 | S4 | 4,455.78 | 1.9368
C3 | F3 | S5 | 4,842.44 | 2.1049
3rd+ Episodes, 14 to 19 Therapy Visits
C1 | F1 | S1 | 3,475.35 | 1.5106
C1 | F1 | S2 | 3,770.07 | 1.6387
C1 | F1 | S3 | 4,194.44 | 1.8232
C1 | F2 | S1 | 3,869.61 | 1.6820
C1 | F2 | S2 | 4,164.33 | 1.8101
C1 | F2 | S3 | 4,588.70 | 1.9946
C1 | F3 | S1 | 4,168.65 | 1.8120
C1 | F3 | S2 | 4,463.37 | 1.9401
C1 | F3 | S3 | 4,887.74 | 2.1246
C2 | F1 | S1 | 4,154.10 | 1.8057
C2 | F1 | S2 | 4,448.82 | 1.9338
C2 | F1 | S3 | 4,873.19 | 2.1182
C2 | F2 | S1 | 4,548.37 | 1.9770
C2 | F2 | S2 | 4,843.08 | 2.1051
C2 | F2 | S3 | 5,267.45 | 2.2896
C2 | F3 | S1 | 4,847.40 | 2.1070
C2 | F3 | S2 | 5,142.12 | 2.2351
C2 | F3 | S3 | 5,566.49 | 2.4196
C3 | F1 | S1 | 4,880.57 | 2.1214
C3 | F1 | S2 | 5,175.29 | 2.2495
C3 | F1 | S3 | 5,599.66 | 2.4340
C3 | F2 | S1 | 5,274.84 | 2.2928
C3 | F2 | S2 | 5,569.55 | 2.4209
C3 | F2 | S3 | 5,993.92 | 2.6054
C3 | F3 | S1 | 5,573.87 | 2.4228
C3 | F3 | S2 | 5,868.59 | 2.5509
C3 | F3 | S3 | 6,292.96 | 2.7354
All Episodes, 20+ Therapy Visits
C1 | F1 | S1 | 5,309.73 | 2.3080
C1 | F1 | S1 | 5,799.87 | 2.5210
C1 | F1 | S1 | 6,362.32 | 2.7655
C2 | F2 | S1 | 5,893.47 | 2.5617
C2 | F2 | S1 | 6,383.61 | 2.7748
C2 | F2 | S1 | 6,946.06 | 3.0192
C3 | F3 | S1 | 6,705.95 | 2.9149
C3 | F3 | S1 | 7,196.09 | 3.1279
C3 | F3 | S1 | 7,758.55 | 3.3724

9. On pages 25430-25431, in Table 12a: NRS Case-Mix Adjustment Variables and Scores, the table is corrected to read as follows:

Table 12a.—NRS Case-Mix Adjustment Variables and Scores
| Description | Score
Selected Skin Conditions:
1 | Primary diagnosis = Anal fissure, fistula and abscess | 19
2 | Primary diagnosis = Cellulitis and abscess | 13
3 | Primary diagnosis = Gangrene | 10
4 | Primary diagnosis = Malignant neoplasms of skin | 16
5 | Primary diagnosis = Non-pressure and non-stasis ulcers | 10
6 | Primary diagnosis = Other infections of skin and subcutaneous tissue | 19
7 | Primary diagnosis = Post-operative Complications 1 | 32
8 | Primary diagnosis = Post-operative Complications 2 | 23
9 | Primary diagnosis = Traumatic Wounds and Burns | 16
10 | Other diagnosis = Anal fissure, fistula and abscess | 8
11 | Other diagnosis = Cellulitis and abscess | 6
12 | Other diagnosis = Gangrene | 11
13 | Other diagnosis = Non-pressure and non-stasis ulcers | 8
14 | Other diagnosis = Other infections of skin and subcutaneous tissue | 7
15 | Other diagnosis = Post-operative Complications 1 | 15
16 | Other diagnosis = Post-operative Complications 2 | 15
17 | Other diagnosis = Traumatic Wounds and Burns | 7
18 | M0450 = 1 pressure ulcer, stage 1 or 2 | 12
19 | M0450 = 2 or 3 pressure ulcers, stage 1 or 2 | 20
20 | M0450 = 4+ pressure ulcers, stage 1 or 2 | 30
21 | M0450 = 1 pressure ulcer, stage 3 | 31
22 | M0450 = 2 pressure ulcers, stage 3 | 41
23 | M0450 = 3+ pressure ulcers, stage 3 | 57
24 | M0450 = 1 pressure ulcer, stage 4 | 52
25 | M0450 = 2 pressure ulcers, stage 4 | 80
26 | M0450 = 3+ pressure ulcers, stage 4 | 104
27 | M0450e = 1(unobserved pressure ulcer(s)) | 16
28 | M0476 = 2 (status of most problematic stasis ulcer: early/partial granulation) | 18
29 | M0476 = 3 (status of most problematic stasis ulcer: not healing) | 28
30 | M0488 = 3 (status of most problematic surgical wound: not healing) | 18
31 | M0488 = 2 (status of most problematic surgical wound: early/partial granulation) | 5
Other Clinical Factors:
32 | M0550 = 1 (ostomy not related to inpt stay/no regimen change) | 21
33 | M0550 = 2 (ostomy related to inpt stay/regimen change) | 35
34 | Any “Selected Skin Conditions” AND M0550 = 1 (ostomy not related to inpt stay/no regimen change) | 22
35 | Any “Selected Skin Conditions” AND M0550 = 2 (ostomy related to inpt stay/regimen change) | 7
36 | M0250 (Therapy at home) = 1 (IV/Infusion) | 11
37 | M0470 = 2 or 3 (2 or 3 stasis ulcers) | 17
38 | M0470 = 4 (4 stasis ulcers) | 34
39 | M0520 = 2 (patient requires urinary catheter) | 17

10. On page 25444, after Table 23b entitled “Proposed National 60-Day Episode Amounts Updated by the Estimated Home Health Market Basket Update for CY 2008, Before Case-Mix Adjustment, Wage Index Adjustment Based on the Site of Service for the Beneficiary or Applicable Payment Adjustment for Episodes Beginning and Ending in CY 2008,” in the first column, in the first full paragraph, in lines 14 through 43, the sentence “Therefore, to calculate an episode's prospective payment amount * * *” and ending with the sentence “The resulting amount is the national case-mix and wage adjusted national standardized 60-day episode payment rate for that particular episode” is corrected to read as follows: “To calculate an episode's prospective payment amount, take the non-adjusted national standardized 60-day episode payment rate and multiply it by the appropriate case-mix weight from Table 5 of this rule. Next, multiply the case-mix adjusted national standardized 60-day episode payment by the labor portion (77.082 percent); multiply this result by the appropriate wage index factor listed in Addendum A or B to wage-adjust the 60-day episode payment. Next multiply the case-mix adjusted national standardized 60-day episode payment by 22.918 percent to compute the non-labor portion. Add this result to the wage-adjusted labor portion to get the case-mix and wage adjusted national 60-day episode payment without NRS. Calculate the NRS amount by multiplying the episode's NRS weight (taken from Table 11 of this proposed rule) by the NRS conversion factor. This adjusted NRS payment is added to the case-mix and wage-adjusted national standardized 60-day episode payment. The resulting amount is the case-mix and wage-adjusted national standardized 60-day episode payment rate including NRS for that particular episode.”

11. On page 25447, in the 12th line, the figure “0.22198” is corrected to read “0.22918”.

12. On page 25459, in Addendum A,

a. In the first column, in line 29, the Wage Index for “Massachusetts” the figure “1.0661” is corrected to read “1.1662”.

b. In the second column, in line 15, the superscript “1” which appears after “New Jersey” is deleted.

c. In the third column, in lines 17 through 22, the footnote “1” at the end of Addendum A, the sentence “All counties within the State are classified as rural. No short-term acute care hospitals are located in the area(s)” is corrected to read as follows: “There are no short-term, acute care hospitals located in rural area(s) in Massachusetts from which to calculate a wage index for CY 2008.”

(Catalog of Federal Domestic Assistance Program No. 93.773, Medicare—Hospital Insurance; and Program No. 93.774, Medicare—Supplementary Medical Insurance Program)

Dated: June 12, 2007.
Ann C. Agnew,
Executive Secretary to the Department.

[FR Doc. 07-2987 Filed 6-13-07; 11:55 am]

BILLING CODE 4120-01-P